DEPARTMENT OF THE INTERIOR

Bureau of Land Management

[LLCAD01000 L12200000.AL 0000]

Meeting of the California Desert District Advisory Council

SUMMARY: Notice is hereby given, in accordance with Public Laws 92-463 and 94-579, that the California Desert District Advisory Council (DAC) to the Bureau of Land Management (BLM), U.S. Department of the Interior, will meet in formal session on Saturday, Sept. 10, 2011, from 8 a.m. to 5 p.m. at the Hampton Inn & Suites, 2710 Lenwood Rd., Barstow, CA 92311. There will be a field trip on Friday, Sept. 9, that will include Sawtooth Canyon Campground and El Mirage Dry Lake Off-Highway Vehicle Area. Field trip details will be posted on the DAC web page, http://www.blm.gov/ca/st/en/info/rac/dac.html, when finalized. Agenda topics for the Saturday meeting will include recreation fees, as well as updates by council members, the BLM California Desert District manager, five field office managers, council subgroups, and renewable energy. Final agenda items will be posted on the DAC web page listed above.

SUPPLEMENTARY INFORMATION: All DAC meetings are open to the public. Public comment for items not on the agenda will be scheduled at the beginning of the meeting Saturday morning. Time for public comment may be made available by the council chairman during the presentation of various agenda items, and is scheduled at the end of the meeting for topics not on the agenda.

While the Saturday meeting is tentatively scheduled from 8 a.m. to 5 p.m., the meeting could conclude prior to 5 p.m. should the council conclude its presentations and discussions. Therefore, members of the public interested in a particular agenda item or discussion should schedule their arrival accordingly.

Written comments may be filed in advance of the meeting for the California Desert District Advisory Council, c/o Bureau of Land Management, External Affairs, 22835 Calle San Juan de Los Lagos, Moreno Valley, CA 92553. Written comments also are accepted at the time of the meeting and, if copies are provided to the recorder, will be incorporated into the minutes.

FOR FURTHER INFORMATION CONTACT: David Briery, BLM California Desert District External Affairs (951) 697-5220.

Dated: August 9, 2011.
Jack L. Hamby,
California Desert Associate District Manager.

[FR Doc. 2011-20923 Filed 8-16-11; 8:45 am]

BILLING CODE 4310-40-P